DEPARTMENT OF HEALTH AND HUMAN SERVICES

Administration for Children and Families

Submission for OMB Review; Comment Request

Title: Fourth National Incidence Study of Child Abuse and Neglect.

OMB No.: 0970-0276.

Description: The Department of Health and Human Services (HHS) intends to issue letters to recruit agencies for participation in the next National Incidence Study of Child Abuse and Neglect (NIS). This will be the fourth cycle of this periodic study. NIS-1, mandated under Public Law (Pub. L.) 93-247 (1974), was conducted in 1979 and 1980 and reported in 1981. NIS-2 was mandated under Pub. L. 98-457 (1984), conducted in 1986 and 1987 and reported in 1988. NIS-3 was mandated under both the Child Abuse Prevention, Adoption, and Family Services Act of 1988 (Pub. L. 100-294) and the Child Abuse, Domestic Violence, Adoption and Family Services Act of 1992 (Pub. L. 102-295), was conducted between 1993 and 1995 and published in 1996. NIS-4, mandated by the Keeping Children and Families Safe Act of 2003 (Pub. L. 108-36), will be reported in 2006.

NIS is unique in that it goes beyond the abused and neglected children who come to the attention of the Child Protective Services (CPS) system. In contrast to the National Child Abuse and Neglect Data Systems (NCANDS), which rely solely on reported cases, the NIS design assumes that reported children represent only a portion of the children who actually are maltreated. Following the implications of its assumptions, NIS estimates the scope of the maltreated child population by combining information about reported cases with data on maltreated children identified by professionals (called “sentinels”) who encounter them during the normal course of their work in a wide range of agencies in representative communities. Sentinels are asked to remain on the lookout for children they believe are maltreated during the study reference period and to provide information about those children. Children identified by sentinels and those whose alleged maltreatment is investigated by CPS during the same period are evaluated against standardized definitions, and only children who meet the study standards are used to develop the study estimates. The study estimates are couched in terms of numbers of maltreated children, with data unduplicated so a given child is counted only once. Confidentiality of all participants is carefully protected.

A nationally representative sample of 120 counties will be selected and all local CPS agencies serving the selected counties will be identified. Plans will be developed to obtain data on cases investigated during the study reference period, September 4 to December 3, 2005. Sentinels in the selected counties will be identified through samples of agencies in 11 categories: county juvenile probation departments, sheriff (and/or state police) departments, public health departments, public housing departments, municipal police departments, hospitals, schools, day care centers, social service agencies, mental health agencies, and shelters for battered women or runaway/homeless youth. A total of approximately 1,600 sentinel agencies will be sampled. Plans will be developed to identify staff in these agencies who have direct contact with children to serve as sentinels during the study by submitting data on maltreated children they encounter during the study reference period. In preparation for the study, letters will be sent to the directors of the selected agencies asking them to permit their agencies to participate in NIS-4, and describing the general nature of the data collection effort. HHS will issue a subsequent notice of proposed data collection for this study after data collection plans are developed.

Respondents: National CPS Agencies and National Sentinel Agencies.

Annual Burden Estimates
Instrument | Number of respondents | Number of responses per respondent | Average burden hours per response | Total burden hours
Letter to CPS Agencies | 120 | 1 | .20 | 24
Letter to Sentinel Agencies | 1,600 | 1 | .20 | 320
| 12,000 | 1 | .20 | 2,400
Estimated Total Annual Burden Hours: 2,744.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: January 6, 2005.
Robert Sargis,
Reports Clearance Officer.

[FR Doc. 05-678 Filed 1-12-05; 8:45 am]

BILLING CODE 4184-01-M